NUCLEAR REGULATORY COMMISSION

Advisory Committee On Reactor Safeguards; Meeting Notice

In accordance with the purposes of Sections 29 and 182b. of the Atomic Energy Act (42 U.S.C. 2039, 2232b), the Advisory Committee on Reactor Safeguards (ACRS) will hold a meeting on March 8-10, 2007, 11545 Rockville Pike, Rockville, Maryland. The date of this meeting was previously published in the Federal Register on Wednesday, November 15, 2006 (71 FR 66561).

Thursday, March 8, 2007, Conference Room T-2B3, Two White Flint North, Rockville, Maryland

8:30 a.m.-8:35 a.m.: Opening Remarks by the ACRS Chairman (Open)—The ACRS Chairman will make opening remarks regarding the conduct of the meeting.

8:35 a.m.-10:15 a.m.: Technical Basis Associated with the Proposed NRC Staff Action for Dealing with the Dissimilar Metal Weld Issue (Open/Closed)—The Committee will hear presentations by and hold discussions with representatives of the NRC staff, their contractors, and the Nuclear Energy Institute regarding the technical basis for the proposed regulatory action for dealing with the dissimilar metal weld issue stemming from the Wolf Creek pressurizer weld flaws, as well as the industry activities associated with this matter.

Note: A portion of this session may be closed to discuss industry proprietary information applicable to this matter, pursuant to 5 U.S.C. 552b(c)(4).

10:30 a.m.-12 noon: Proposed Revisions to Standard Review Plan (SRP) Sections (Open)—The Committee will hear presentations by and hold discussions with representatives of the NRC staff regarding SRP Sections 15.0, Accident Analysis—Introduction, and 15.9, BWR Core Stability.

1:30 p.m.-3:30 p.m.: Final Results of the Chemical Effects Head Loss Tests Related to the Resolution of the PWR Sump Performance Issues (Open)—The Committee will hear presentations by and hold discussions with representatives of the NRC staff regarding final results of the chemical effects head loss tests in a pressurized water reactor (PWR) sump pool environment, and related matters.

3:45 p.m.-5:15 p.m.: Technology Neutral Licensing Framework and Related Matters (Open)—The Committee will hear presentations by and hold discussions with representatives of the NRC staff regarding the Technology Neutral Licensing Framework, and the Commission request in the November 8, 2006 Staff Requirements Memorandum that the ACRS provide its views to the Commission with respect to the staff's work on Technology Neutral Licensing Framework with the focus on ensuring the value of such an approach versus the development of a licensing framework for specific designs.

5:30 p.m.-7 p.m.: Preparation of ACRS Reports (Open)—The Committee will discuss proposed ACRS reports on matters considered during this meeting, as well as a proposed ACRS report on the TRACE thermal-hydraulic system analysis code.

Friday, March 9, 2007, Conference Room T-2B3, Two White Flint North, Rockville, Maryland

8:30 a.m.-8:35 a.m.: Opening Remarks by the ACRS Chairman (Open)—The ACRS Chairman will make opening remarks regarding the conduct of the meeting.

8:35 a.m.-9 a.m.: Proposed Revisions to Regulatory Guides and SRP Sections in Support of New Reactor Licensing (Open)—The Committee will discuss and determine whether to review proposed revisions to certain regulatory guides and Standard Review Plan (SRP) Sections related to new reactor licensing.

9 a.m.-9:45 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

9:45 a.m.-10 a.m.: Reconciliation of ACRS Comments and Recommendations (Open)—The Committee will discuss the responses from the NRC Executive Director for Operations to comments and recommendations included in recent ACRS reports and letters.

10:15 a.m.-12 noon: Safeguards and Security Matters (Closed) (Room T-8E8)—The Committee will hear presentations by and hold discussions with representatives of the NRC staff regarding the research on mitigating strategies for new reactor designs.

Note: This session will be closed to protect information classified as National Security information as well as safeguards information pursuant to 5 U.S.C. 552b(c)(1) and (3).

1:30 p.m.-6:30 p.m.: Preparation of ACRS Reports (Open)—The Committee will discuss proposed ACRS reports.

Saturday, March 10, 2007, Conference Room T-2B3, Two White Flint North, Rockville, Maryland

8:30a.m.-12:30 p.m.: Preparation of ACRS Reports (Open)—The Committee will continue discussion of proposed ACRS reports.

12:30 p.m.-1 p.m.: Miscellaneous (Open)—The Committee will discuss matters related to the conduct of Committee activities and matters and specific issues that were not completed during previous meetings, as time and availability of information permit.

Procedures for the conduct of and participation in ACRS meetings were published in the Federal Register on October 2, 2006 (71 FR 58015). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) P.L. 92-463, I have determined that it will be necessary to close portions of this meeting to discuss industry proprietary information, pursuant to 5 U.S.C. 552b(c)(4) and to protect information classified as National Security information as well as safeguards information pursuant to 5 U.S.C. 552b(c)(1) and (3).

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4 p.m., (ET).

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service. Individuals or organizations requesting this service will be responsible for telephone line charges and for providing the equipment and facilities that they use to establish the videoteleconferencing link. The availability of videoteleconferencing services is not guaranteed.

Dated: February 9, 2007.
Andrew L. Bates,
Advisory Committee Management Officer.

[FR Doc. E7-2669 Filed 2-14-07; 8:45 am]

BILLING CODE 7590-01-P